DEPARTMENT OF HOMELAND SECURITY

Federal Emergency Management Agency

[FEMA-1702-DR]

South Dakota; Amendment No. 1 to Notice of a Major Disaster Declaration

AGENCY: Federal Emergency Management Agency, DHS.

ACTION: Notice.

SUMMARY: This notice amends the notice of a major disaster declaration for the State of South Dakota (FEMA-1702-DR), dated May 22, 2007, and related determinations.

DATES: Effective Date: May 31, 2007.

FOR FURTHER INFORMATION CONTACT: Peggy Miller, Disaster Assistance Directorate, Federal Emergency Management Agency, Washington, DC 20472, (202) 646-2705.

SUPPLEMENTARY INFORMATION: The notice of a major disaster declaration for the State of South Dakota is hereby amended to include the Public Assistance program in the following areas among those areas determined to have been adversely affected by the catastrophe declared a major disaster by the President in his declaration of May 22, 2007:

The counties of Aurora, Beadle, Bon Homme, Brown, Brule, Buffalo, Clark, Day, Hanson, Hutchinson, Jackson, Jerauld, Kingsbury, Lake, Marshall, McCook, Miner, Roberts, Sanborn, Spink, Tripp, and Yankton and those portions of the Pine Ridge Indian Reservation, Crow Creek Indian Reservation, and the Sisseton Wahpeton Indian Oyate that lie within the designated counties.

(The following Catalog of Federal Domestic Assistance Numbers (CFDA) are to be used for reporting and drawing funds:97.030, Community Disaster Loans; 97.031, Cora Brown Fund Program; 97.032, Crisis Counseling; 97.033, Disaster Legal Services Program; 97.034, Disaster Unemployment Assistance (DUA); 97.046, Fire Management Assistance; 97.048, Individuals and Households Housing; 97.049, Individuals and Households Disaster Housing Operations; 97.050, Individuals and Households Program—Other Needs; 97.036, Public Assistance Grants; 97.039, Hazard Mitigation Grant Program.)

R. David Paulison,
Administrator, Federal Emergency Management Agency.

[FR Doc. E7-10967 Filed 6-6-07; 8:45 am]

BILLING CODE 9110-10-P